DEPARTMENT OF COMMERCE

National Oceanic and Atmospheric Administration

[I.D. 021500B]

New England Fishery Management Council; Public Meetings

AGENCY: National Marine Fisheries Service (NMFS), National Oceanic and Atmospheric Administration (NOAA), Commerce.

ACTION: Notice of public meeting.

SUMMARY: The New England Fishery Management Council (Council) is scheduling public information meetings in support of its Habitat Committee to solicit public input on proposals to begin developing one or more dedicated habitat research areas. The results of and information gathered at these meetings will be reviewed by the Habitat Committee. Recommendations from the committee will be brought to the full Council for formal consideration and action, if appropriate.

DATES: The meetings will held on Monday, March 6, 2000 at 3:00 p.m., Wednesday, March 8, 2000 at 3:00 p.m., and Monday, March 13, 2000 at 10:00 a.m.

ADDRESSES: The meetings will be held as follows:

March 6, 2000, 3:00 p.m., Urban Forestry Center, 45 Elwyn Road, Portsmouth, NH; (603) 431-6774;

March 8, 2000, 3:00 p.m., Center for Marine Science and Technology (CMAST), University of Massachusetts, 706 South Rodney French Boulevard, New Bedford, MA; (508) 999-8193; and

March 13, 2000, 10:00 a.m., Sheraton Plymouth Inn, 180 Water Street, Plymouth, MA; (508) 747-4900.

FURTHER INFORMATION CONTACT: Paul J. Howard, Executive Director, New England Fishery Management Council (781) 231-0422. Requests for special accommodations should be addressed to the New England Fishery Management Council, 5 Broadway, Saugus, MA 01906-1036; telephone: (781) 231-0422.

SUPPLEMENTARY INFORMATION: The New England Fishery Management Council's Habitat Committee is holding informational meetings on the potential establishment of one or more new dedicated habitat research areas. The committee is trying to identify the major issues related to developing the research area(s). The committee solicits suggestions and input on the location and design of proposed habitat research area(s). The committee also wants to ensure that any area(s) selected would be appropriate for the conduct of habitat-related research and information gathering.

Although non-emergency issues not contained in this agenda may come before the Council for discussion, those issues will not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: February 15, 2000.
Richard W. Surdi,
Acting Director, Office of Sustainable Fisheries, National Marine Fisheries Service.

[FR Doc. 00-4146 Filed 2-18-00; 8:45 am]

BILLING CODE 3510-22-F